DEPARTMENT OF COMMERCE

National Oceanic and Atmospheric Administration

50 CFR Part 679

[Docket No. 250730-0133]

RIN 0648-BM64

Fisheries of the Exclusive Economic Zone Off Alaska; Amendment 125 to the Bering Sea and Aleutian Islands Fishery Management Plan; Pacific Cod Small Boat Access

AGENCY: National Marine Fisheries Service (NMFS), National Oceanic and Atmospheric Administration (NOAA), Commerce.

ACTION: Proposed rule; request for comments.

SUMMARY: NMFS proposes a rule to implement amendment 125 to the Fishery Management Plan for Groundfish of the Bering Sea and Aleutian Islands Management Area (BSAI FMP). Amendment 125 would add a small vessel provision to the current BSAI Pacific cod jig sector in the A season, January 1 to April 30. Under this small vessel provision, catch from catcher vessels (CV) using hook-and-line or pot gear that are less than or equal to 55 feet (ft) (16.8 meters (m)) length overall (LOA) harvesting Pacific cod in the BSAI during the jig gear A season would accrue to the jig sector allocation. This action would provide stability and additional opportunities for some fishery participants and potential new entrants. It also advances the goals and objectives of the Magnuson-Stevens Fishery Conservation and Management Act (Magnuson-Stevens Act), the BSAI FMP, and other applicable laws.

DATES: Submit comments on or before September 5, 2025.

ADDRESSES: A plain language summary of this proposed rule is available at: https://www.regulations.gov/docket/NOAA-NMFS-2025-0003. You may submit comments on this document, identified by NOAA-NMFS-2025-0003, by any of the following methods:

• Electronic Submission: Submit all electronic public comments via the Federal e-Rulemaking Portal. Visit https://www.regulations.gov and type NOAA-NMFS-2025-0003 in the Search box. Click on the “Comment” icon, complete the required fields, and enter or attach your comments.

• Mail: Submit written comments to Gretchen Harrington, Assistant Regional Administrator, Sustainable Fisheries Division, Alaska Region NMFS. Mail comments to P.O. Box 21668, Juneau, AK 99802-1668.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

Electronic copies of the draft Regulatory Impact Review for proposed amendment 125 to the Fishery Management Plan for Groundfish of the Bering Sea and Aleutian Islands Management Area (referred to as the Analysis), and the draft Categorical Exclusion prepared for this action are available from www.regulations.gov or from the NMFS Alaska Region website at https://www.fisheries.noaa.gov/region/alaska.

FOR FURTHER INFORMATION CONTACT: Lis Henderson, 907-586-7228, lis.henderson@noaa.gov.

SUPPLEMENTARY INFORMATION:

Authority for Action

NMFS manages the groundfish fisheries in the Exclusive Economic Zone off Alaska under the BSAI FMP. The North Pacific Fishery Management Council (Council) prepares and recommends FMPS under the authority of the Magnuson-Stevens Act (16 U.S.C. 1801 et seq). In order to promote the long-term health and stability of the BSAI Pacific cod fishery, NMFS is proposing this action under the rulemaking authority of the Magnuson-Stevens Act Section 302(h)(1) and 303(a)(1) (16 U.S.C. 1801 et seq.) in alignment with the Council's recommendation. Regulations implementing the BSAI FMP appear at 50 CFR part 679. General regulations governing U.S. fisheries also appear at 50 CFR part 600.

The Council transmitted amendment 125 for review by the Secretary of Commerce, and a notice of availability (NOA) of amendment 125 was published in the Federal Register on June 4, 2025, with comments invited through August 4, 2025 (90 FR 23664). Comments submitted on this proposed rule by the end of the comment period (See DATES) will be considered by NMFS and addressed in the response to comments in the final rule. All comments addressing amendment 125 must be received by August 4, 2025, to be considered in the approval/disapproval decision on amendment 125. Commenters do not need to submit the same comments on both the NOA and this proposed rule. All relevant written comments received by August 4, 2025, whether specifically directed to amendment 125, this proposed rule, or both will be considered by NMFS in the approval/disapproval decision for amendment 125 and addressed in the response to comments in the final rule.

Background

Pacific Cod Allocations

Pacific cod (Gadus macrocephalus) is one of the most abundant and valuable groundfish species harvested in the BSAI. Vessels harvest Pacific cod using trawl gear and other types of authorized fishing gear, including hook-and-line gear, jig gear, and pot gear. Vessels harvesting BSAI Pacific cod operate as CVs that harvest and deliver the fish for processing or as catcher/processors (C/Ps) that harvest and process the fish on board.

The BSAI FMP and implementing regulations require that, after consultation with the Council, NMFS specify an overfishing limit (OFL), an acceptable biological catch (ABC), and a total allowable catch (TAC) amount for each target species or species group of groundfish, including Pacific cod, on an annual basis. An OFL is the catch level above which overfishing would occur for a species or species group. An ABC is the level of a species or species group annual catch that accounts for the scientific uncertainty in the estimate of OFL and any other scientific uncertainty. The TAC is the annual catch target for a species or species group, derived from the ABC by considering social and economic factors and management uncertainty. Under the BSAI FMP, an ABC is set below its respective OFL and the TAC must be set lower than or equal to the ABC.

The OFLs, ABCs, and TACs for BSAI groundfish are specified through the annual harvest specifications process. A detailed description of the annual harvest specifications process is provided in the final 2025 and 2026 harvest specifications for groundfish of the BSAI (90 FR 12640, March 18, 2025). The annual harvest specifications process for BSAI Pacific cod is briefly summarized here. Specific examples of Pacific cod OFLs, ABCs, TACs, and other apportionments of Pacific cod used in this preamble are based on the 2025 specifications from the final 2025 and 2026 harvest specifications for groundfish of the BSAI, unless otherwise noted.

Pacific cod is assessed as two distinct stocks with separate OFLs, ABCs, and TACs: (1) the eastern Bering Sea (BS) stock; and (2) the Aleutian Islands (AI) stock. Before the Pacific cod TACs are established, the Council and NMFS consider social and economic factors and management uncertainty, as well as two factors that are particularly relevant to BSAI Pacific cod: (1) the Pacific cod state waters Guideline Harvest Level fisheries; and (2) an overall limit on the maximum amount of TAC that can be specified for all BSAI groundfish species combined.

Once the groundfish TACs are established, regulations at § 679.20(a)(7)(i) allocate 10.7 percent of the BS Pacific cod TAC and 10.7 percent of the AI Pacific cod TAC to the Community Development Quota (CDQ) Program for the exclusive harvest by Western Alaska CDQ groups. Section 305(i) of the Magnuson-Stevens Act authorizes six CDQ groups representing 65 communities to receive exclusive harvest privileges of groundfish, including Pacific cod, and specifies the methods for allocating these harvest privileges.

After subtraction of the CDQ allocation from each TAC, NMFS combines the remaining BS and AI TACs into one BSAI non-CDQ Pacific cod TAC, which is available for harvest by nine non-CDQ fishery sectors. BSAI Pacific cod has been fully allocated to these sectors since 2008 with the implementation of amendment 85 to the BSAI FMP (72 FR 50788, September 4, 2007). Regulations at § 679.20(a)(7)(ii)(A) define the nine Pacific cod non-CDQ fishery sectors in the BSAI and specify the percentage allocated to each. The non-CDQ fishery sectors are defined by a combination of gear type (e.g., trawl gear or hook-and-line gear), operation type (i.e., CV or C/P), and vessel size, or LOA, categories (e.g., vessels greater than or equal to 60 ft (18.3 m) LOA). Through the annual harvest specifications process, NMFS allocates an amount of the combined BSAI non-CDQ TAC to each of these nine non-CDQ fishery sectors. Regulations at § 679.20(a)(7)(ii)(A) allocate 1.4 percent of the BSAI non-CDQ Pacific cod TAC to the jig sector and 2 percent to the less than 60 ft (18.3 m) LOA hook-and-line and pot CV sector.

Under regulations at § 679.20(a)(7), allocations of Pacific cod to most of the CDQ Program and non-CDQ fishery sectors are further apportioned by seasons. Season dates for the CDQ and non-CDQ fishery sectors are established at § 679.23(e)(5). In general, regulations apportion jig gear allocations among three seasons that correspond to January 1 to April 30 (A season), April 30 to August 31 (B season), and August 31 to December 31 (C season). The less than 60 ft (18.3 m) LOA hook-and-line and pot CV sector is not divided into seasons and is open January 1 to December 31. Depending on the specific sector allocation (CDQ Program or non-CDQ fishery), between 40 and 75 percent of the Pacific cod allocation is apportioned to the A season. Because the non-CDQ sector allocations are defined BSAI-wide, sectors remain free to harvest their allocation in either of the two subareas (BS and AI) as long as they have the appropriate federal permits. However, if the non-CDQ portion of the TAC in either subarea (BS or AI) will be or is reached, NMFS will close directed fishing for Pacific cod in that subarea to all non-CDQ sectors.

While Pacific cod remains one of the most abundant species in the BSAI management area, population declines since 2016 have resulted in lower annual TACs than historical averages (see table 3-1 in Section 3.2 of the Analysis). The smaller annual TACs have resulted in earlier season closures. Directed fishing for BS non-CDQ Pacific cod closed prior to the end of the jig sector C season (December 31) in 4 of the last 5 years: on November 18, 2020 (with the exception of the trawl sector which closed earlier); September 17, 2021; October 7, 2022; and October 16, 2023. No early closure occurred in 2024.

This proposed rule refers to various groups of vessels using nontrawl gear and their corresponding sector allocations. Although in some cases it is somewhat intuitive from the name of the sector, it is useful to clearly explain the relationships between catch from groups of vessels using specific gear types and how their catch accrues toward various sector allocations. Catch from all vessels using jig gear, including CVs and C/Ps, accrues toward the jig vessels sector. Catch from vessels using hook-and-line gear or pot gear accrues toward one of five different sector allocations depending on the vessels operation type (CV or C/P) and LOA: (1) hook-and-line and pot CVs less than 60 ft (18.3 m) LOA; (2) hook-and-line CVs greater than or equal to 60 ft (18.3 m) LOA; (3) hook-and-line CPs; (4) pot CVs greater than or equal to 60 ft (18.3 m) LOA, and (5) pot CPs. Currently, catch from all CVs that are less than 60 ft (18.3 m) LOA using hook-and-line or pot gear accrues toward the hook-and-line and pot CVs less than 60 ft (18.3 m) LOA sector allocation. Under the changes proposed by this action, catch during the jig A season (January 1 to April 30) from CVs that are less than or equal to 55 ft (16.8 m) LOA would accrue to the jig vessel sector, while catch during the jig A season from CVs greater than 55 ft (16.8 m) LOA but less than 60 ft (18.3 m) LOA would continue to accrue to the hook-and-line and pot CVs less than 60 ft (18.3 m) LOA sector.

Inseason Adjustments

Regulations at § 679.20(a)(7)(iv)(B) allow any unused portion of a seasonal allowance from any sector except the jig sector to be rolled over to that sector's next season during the current fishing year unless the Regional Administrator determines that sector would be unable to harvest its allocation. Historically Pacific cod in the other sectors is often fully utilized later in the year, therefore the unused portion of Pacific cod has consistently rolled over to that sector's next season. This means that the only reliable source for reallocations during the A season would come from the jig sector's A season apportionment. Section 679.20(a)(7)(iv)(C) allows the Regional Administrator to reallocate any projected unused portion of the BSAI Pacific cod jig sector's seasonal allowance to the less than 60 ft (18.3 m) LOA hook-and-line and pot CV sector.

There has historically been little to no participation by vessels using jig gear in the A season, which has allowed NMFS to reallocate projected unused A season TAC from the jig sector to the less than 60 ft (18.3 m) LOA hook-and-line and pot CV sector early in the year (frequently in January). In recent years, the majority of the jig sector's A season allowance has been reallocated to the less than 60 ft (18.3 m) LOA hook-and-line and pot CV sector at the beginning of the year. NMFS closely monitors the fishing activity in these sectors to understand their fishing activity and capacity to harvest Pacific cod. NMFS tries to time any reallocations during the jig sector's A season to ensure the less than 60 ft (18.3 m) LOA hook-and-line and pot CV sector does not experience a disruption in fishing between their initial allocation and the reallocation becoming available.

Affected Fishery Sectors

This action affects the jig gear sector and the hook-and-line and pot CVs less than 60 ft (18.3 m) LOA sector. The jig sector is allocated 1.4 percent of the annual BSAI Pacific cod non-CDQ TAC, which is further divided into seasonal allowances between the A, B, and C seasons. The A season is issued 60 percent of the jig sector's total apportionment while the B and C seasons are each issued 20 percent (§ 679.20(a)(7)(iv)(A)(3)). The jig gear sector includes all vessels operating as CVs and using jig gear, as well as C/Ps vessels using jig gear to harvest Pacific cod.

The less than 60 ft (18.3 m) LOA hook-and-line and pot CV sector is allocated 2 percent of the annual BSAI Pacific cod non-CDQ TAC for the year, with no seasonal allocations (§ 679.20(a)(7)(iv)(A)(4)). Given this relatively small sector allocation and the number as well as the fishing capacity of participants in this sector, this typically results in full harvest of the less than 60 ft (18.3 m) LOA hook-and-line or pot CV sector annual allocation early in the year, closing the sector to directed fishing typically in late January to early February. Regulations at § 679.20(a)(7)(iii)(A) specify the reallocation hierarchy applied to projected unharvested TAC from CV sectors are first reallocated to the jig sector, the less than 60 ft (18.3 m) LOA hook-and-line or pot CV sector, or both, followed by the other sectors as described in § 679.20(a)(7)(iii). Since 2020, reallocations to the less than 60 ft (18.3 m) LOA hook-and-line or pot CV sector have typically occurred first at the beginning of the year and then again in early to mid-September. However, it is important to note that reallocations can happen any time of the year if it is projected there will be unused harvest.

The current regulations at § 679.20(a)(7)(iv)(B) and (C) require a reallocation of BSAI Pacific cod from the jig sector's C season to the less than 60 ft (18.3 m) LOA hook-and-line and pot CV sector on or near September 1. On average, from 2008 through 2021, 95 percent of the BSAI Pacific cod jig's initial allocation has been reallocated to the less than 60 ft (18.3 m) LOA hook-and-line and pot CV sector.

As explained in Section 1.2.1 of the Analysis (see ADDRESSES), some vessels in the less than 60 ft (18.3 m) LOA hook-and-line and pot CV sector (typically vessels with an LOA around 58 ft (17.7 m)) are known to have disproportionately greater catch per unit effort and improved stability in the water than smaller vessels. The Council considered two options to set the LOA threshold for smaller hook-and-line or pot CVs to harvest the jig sector allocation during the A season: (1) less than or equal to 55 ft (16.8 m) LOA; and (2) less than or equal to 56 ft (17.1 m) LOA. Public comments received during the Council process suggested that a significant shift in capacity for harvesting BSAI Pacific cod occurs between 56 ft (17.1 m) LOA vessels and smaller vessels.

Need for Action

Increased participation in the less than 60 ft (18.3 m) LOA hook-and-line and pot CV sector and reduced TACs in recent years have resulted in early (January or February) directed fishing closures for the sector. Smaller vessels (less than or equal to 55 ft (16.8 m) LOA) are disproportionately affected by early closures because vessel operators have less flexibility to fish when the weather is poor and typically fish waters closer to port, which may be less productive. Historically, the jig sector allocation has not been fully used, particularly in the A and C seasons. This action would allow less than or equal to 55 ft (16.8 m) LOA CVs using hook-and-line or pot gear to harvest Pacific cod from the jig sector allocation, which is intended to increase stability for current fishery participants and potential new entrants with smaller CVs without negatively impacting vessels using jig gear.

Reallocation of the jig sector allocation has created an important fishing opportunity in the fall for the less than 60 ft (18.3 m) LOA hook-and-line and pot CV sector that allows vessels to transition (e.g., retain crew) from summer fisheries like salmon or Individual Fishing Quota halibut and sablefish to the Federal Pacific cod fishery. Other reallocation opportunities available to open the less than 60 ft (18.3 m) LOA hook-and-line and pot CV sector on September 1 are uncertain, except for the jig sector, because it is not always possible to project if other sectors will be unable to fully harvest their TACs before the end of the year in September. It is important to also note that, because there has historically been little to no participation by the jig sector fishing in the C season, NMFS has been able to reallocate unused B and projected C season TAC to the current less than 60 ft (18.3 m) LOA hook-and-line and pot CV sector on or near September 1.

Amendment 125 and this proposed rule would retain the current reallocation hierarchy as specified at § 679.20(a)(7)(iii)-(iv), which would still require the Regional Administrator to reallocate a projected unused portion of a Pacific cod allowance from the jig sector to the less than 60 ft (18.3 m) LOA hook-and-line and pot CV sector at the beginning of the C season, and allow NMFS to reallocate earlier in the year if NMFS is confident that they could project the amount of TAC that the newly modified jig sector would need to finish the A season.

Proposed Action

Amendment 125 would modify the jig sector, during the A season, to include catch from CVs using hook-and-line or pot gear that are less than or equal to 55 ft (16.8 m) LOA. Pacific cod harvest from these vessels during the jig sector A season would accrue to the jig sector allocation. This modification would provide an opportunity for these smaller CVs to fish the A season apportionment of the jig sector allocation. Reallocations from the jig sector to the less than 60 ft (18.3 m) LOA in the A season currently happen at the beginning of the season, in early January. Under the proposed rule, NMFS would not reallocate the majority of the jig sector allocation to the less than 60 ft (18.3 m) LOA hook-and-line and pot CV sector in January to account for CVs using hook-and-line or pot gear that are less than or equal to 55 ft (16.8 m) LOA participating in the jig sector A season. Therefore, the reallocation during the jig sector A season may not occur at all, or would likely occur much later in the jig sector A season, based on the level of participation during the jig sector A season by smaller vessels (less than or equal to 55 ft (16.8 m) LOA). This opportunity for smaller vessels to fish the A season allowance of the jig sector allocation would reduce competition for the smaller vessels (less than or equal to 55 ft (16.8 m) LOA) with larger vessels during the jig gear A season. Vessels within the less than 60 ft (18.3 m) LOA hook-and-line and pot CV sector that are greater than 55 ft (16.9 m) LOA would have reduced fishing opportunity during the jig gear A season; however, these vessels tend to have additional efficiencies that enable them to operate in different weather conditions with greater catch per unit effort. The proposed rule would also result in the less than 60 ft (18.3 m) LOA hook-and-line and pot CV sector having less available TAC to harvest in January and likely an earlier fishery closure. After the jig sector A season ends, harvest from all CVs that are less than or equal to 55 ft (16.8 m) LOA, and using hook-and-line or pot gear, would accrue to the less than 60 ft (18.3 m) LOA hook-and-line and pot gear CV sector allocation for the remainder of the year. There would be no change after the end of the jig sector A season for CVs less than 60 ft (18.3 m) LOA and greater than 55 ft (16.8 m) LOA, which would continue to have their harvest accrue to the less than 60 ft (18.3 m) LOA hook-and-line and pot gear CV sector allocation.

To implement amendment 125, NMFS proposes revising the Federal BSAI Pacific cod jig sector, during the A season only, to include CVs less than or equal to 55 ft (16.8 m) LOA that use hook-and-line or pot gear. After the jig sector A season ends, all harvest from CVs that are less than 60 ft (18.3 m) LOA, and using hook-and-line or pot gear, would accrue to the less than 60 ft (18.3 m) LOA hook-and-line and pot gear CV sector. This action would allow smaller CVs in the less than 60 ft (18.3 m) LOA hook-and-line and pot CV sector to harvest the Pacific cod jig allocation earlier in the year. Vessels larger than 55 ft (16.8 m) LOA within the less than 60 ft (18.3 m) LOA hook-and-line or pot gear sector would only receive reallocations from the jig sector in the A season if there was sufficient A season allocation that would not be harvested by CVs less than or equal to 55 ft (16.8 m) LOA. This action would not change the allocation percentages or reallocation hierarchy established under amendment 85 to the BSAI FMP (72 FR 50788, September 4, 2007).

NMFS proposes adding a small vessel provision at § 679.20(a)(7)(iv)(D) to specify the provisions for less than or equal to 55 ft (16.8 m) LOA hook-and-line or pot CVs participating in the jig sector A season. After the jig sector A season ends on April 30 at 1200 hours Alaska local time (A.l.t.), seasonal allowances will be designated for jig vessels only. Beginning April 30 at 1200 hours A.l.t., harvest from hook-and-line or pot CVs less than or equal to 55 ft (16.8 m) LOA would accrue against the hook-and-line and pot CV less than 60 ft (18.3 m) LOA sector's allocation.

NMFS proposes corresponding changes to the sector allocations table in regulations at § 679.20(a)(7)(ii)(A) to modify the descriptions of the jig sector and the hook-and-line and pot CV less than 60 ft (18.3 m) LOA sector to accommodate the distinction between smaller (less than or equal to 55 ft (16.8 m) LOA) hook-and-line or pot CVs and larger (greater than 55 ft (16.8 m) LOA) hook-and-line or pot CVs during the jig sector A season (January 1 to April 30) as specified at § 679.23(e)(5)(iv)(A).

NMFS proposes revising the descriptions of seasonal allowances by sector under § 679.20(a)(7)(iv) to reflect these distinctions by vessel size, type, and season. Note that season dates vary by sector and are listed under § 679.23(e)(5). This action would apply only during the jig gear A season and does not modify regulations that govern when directed fishing by CVs using hook-and-line or pot gear is authorized. Additional revisions are proposed in regulations to include cross references to the small vessel provision being proposed at § 679.20(a)(7)(iv)(D) as needed.

NMFS proposes changes to regulations at § 679.20(a)(7)(ii)(B) to modify which sectors have an incidental catch allowance (ICA) deducted from their aggregate TAC to include the jig sector. Currently, the ICA is deducted from the hook-and-line and pot gear sectors, but the inclusion of smaller CVs (less than or equal to 55 ft (16.8 m) LOA) using hook-and-line or pot gear in the jig sector means that the ICA deduction should apply to the jig sector as well. If the ICA deduction was not applied to the jig sector, then any incidental catch of Pacific cod by CVs less than or equal to 55 ft (16.8 m) LOA that use hook-and-line or pot gear that occurs January 1 to April 30 will accrue towards the jig TAC instead. In recent years the sablefish and halibut IFQ fisheries have opened in March and Pacific cod is a common incidental catch species in those fisheries.

NMFS proposes technical changes to regulations at § 679.20(a)(7)(iii) to incorporate the small vessel provision into the existing non-CDQ sector reallocation hierarchy and make technical changes to the organization. Paragraph § 679.20(a)(7)(iii)(A) would be divided into six subparagraphs and references to the new small vessel provision would be added to paragraph (a)(7)(iii)(A)(1). NMFS proposes revising § 679.20(a)(7)(iii)(B) to add introductory text that clarifies that reallocations to trawl gear sectors are considered after applying paragraphs (a)(7)(iii)(A)(1) through (6) that specify the hierarchy of reallocations to the non-trawl CV sectors.

Classification

Pursuant to section 304(b)(1)(A) of the Magnuson-Stevens Act, the NMFS Assistant Administrator has determined that this proposed rule is consistent with the BSAI FMP, other provisions of the Magnuson-Stevens Act, and other applicable law, subject to further consideration after public comment.

The proposed rule has been determined to be not significant for purposes of E.O. 12866.

This proposed rule is not an Executive Order 14192 regulatory action because the rule is not significant under Executive Order 12866.

This proposed rule contains no information collection requirements under the Paperwork Reduction Act of 1995 (44 U.S.C. 3501 et seq.).

Regulatory Impact Review

A Regulatory Impact Review (RIR) was prepared to assess all costs and benefits of available regulatory alternatives. A copy of this analysis is available from NMFS (see ADDRESSES). The Council recommended amendment 125 based on those measures that maximized net benefits to the Nation. Specific aspects of the economic analysis are discussed below in the Initial Regulatory Flexibility Analysis (IRFA) section.

Initial Regulatory Flexibility Analysis

An IRFA was prepared for this proposed rule, as required by section 603 of the Regulatory Flexibility Act (RFA) (5 U.S.C. 603), to describe the economic impact this proposed rule, if adopted, would have on small entities. This IRFA: (1) describes the action; (2) the reasons why it is proposed; (3) the objectives and legal basis for this proposed rule; (4) the estimated number and description of directly regulated small entities to which this proposed rule would apply; (5) the recordkeeping, reporting, and other compliance requirements of this proposed rule; and (6) the relevant Federal rules that may duplicate, overlap, or conflict with this proposed rule. This IRFA also describes significant alternatives to this proposed rule that would accomplish the stated objectives of the Magnuson-Stevens Act, and any other applicable statutes, and that would minimize any significant economic impact of this proposed rule on small entities. The description of the proposed action, its purpose, and the legal basis are explained earlier in the preamble to this proposed rule and are not repeated here.

For RFA purposes only, NMFS has established a small business size standard for businesses, including their affiliates, whose primary industry is commercial fishing (see 50 CFR 200.2). A business primarily engaged in commercial fishing (NAICS code 11411) is classified as a small business if it is independently owned and operated, is not dominant in its field of operation (including its affiliates), and has combined annual gross receipts not in excess of $11 million for all its affiliated operations worldwide. A shoreside and mothership processor primarily involved in seafood processing (NAICS code 311710) is classified as a small business if it is independently owned and operated, is not dominant in its field of operation (including its affiliates), and has combined annual employment, counting all individuals employed on a full-time, part-time, or other basis, not in excess of 750 employees for all its affiliated operations worldwide.

Number and Description of Small Entities Regulated by This Proposed Rule

Entities directly regulated by this action include vessels operating in the Federal BSAI Pacific cod less than 60 ft (18.3 m) LOA hook-and-line and pot CV and jig sectors. The jig sector includes CVs and C/P vessels. This section identifies all entities that could be considered directly regulated entities under the range of alternatives considered and likely represents an overestimate of the number of small entities that would be directly regulated.

In the most recent five years for which annual economic data are available (2019 through 2023), there were 53 active vessels that participated in the Federal BSAI Pacific cod less than 60 ft (18.3 m) LOA hook-and-line and pot CV and jig sectors. All 53 active vessels are directly regulated entities. All but one of the 53 directly regulated entities are considered small entities under the RFA. As many as three vessels from the less than 60 ft (18.3 m) LOA hook-and-line and pot CV sector also participated in the BSAI Pacific cod jig sector in either 2019 or 2020; however, no vessel participated in the jig sector in 2021 through 2023. All of these jig vessels are considered directly regulated small entities. Sixteen hook-and-line or pot CVs that are less than or equal to 55 ft (16.8 m) LOA participated in the BSAI Pacific cod fishery (2019 through 2023), and all 16 were active in 2023. All 16 of these small hook-and-line or pot CVs are considered directly regulated small entities. Thirty-seven hook-and-line or pot CVs greater than 55 ft (16.8 m) LOA participated in the less than 60 ft (18.3 m) hook-and-line and pot CV sector (2019 through 2023), of which 34 vessels were active in 2023. Thirty-six of those 37 vessels are considered directly regulated small entities. These counts identify all unique directly regulated small entities that may participate in the fishery recognizing that not all of these vessels participate in every year.

Impacts of This Action on Small Entities

All but one of the entities directly regulated by this action are small entities for RFA purposes. The potential impacts to these small entities are extensively analyzed in the associated RIR. A summary of those potential effects is provided here.

This action adds a small vessel provision to the current BSAI Pacific cod jig sector in the A season. Under this small vessel provision, catch from hook-and-line or pot CVs that are less than or equal to 55 ft (16.8 m) LOA harvesting Pacific cod in the BSAI during the jig gear A season would accrue to the jig sector allocation. This action does not change the allocation percentage to either the jig sector, or the less than 60 ft (18.3 m) hook-and-line and pot CV sector; however, during the jig gear A season, harvest by the hook-and-line or pot CVs less than or equal to 55ft (16.8 m) LOA would accrue to the jig sector allocation before any reallocation would occur. Changes to the timing of inseason reallocation of any unused portion of the jig sector allocation could affect the remaining vessels in the less than 60 ft (18.3 m) LOA hook-and-line and pot gear CV sector by delaying or eliminating a reallocation of the jig sector A season apportionment.

In terms of the effect on fleet revenue, the Analysis of Option 2 (see ADDRESSES) estimates an average annual increase in fleet revenue of $1.15 million for the hook-and-line or pot CVs less than or equal to 56 ft (17.1 m) LOA and an annual average revenue decrease of $1.22 million for the hook-and-line or pot CVs greater than 56 ft (17.1 m) LOA. For the reasons discussed in Section 4.3.5 of the Analysis both of these numbers are likely overestimates. Although this action changes how the harvest of vessels less than or equal to 55 ft (16.8 m) LOA is accounted for, due to the small difference between the two options considered, the same revenue analysis could not be performed to directly compare the 55 ft (16.8 m) and 56 ft (17.1 m) LOA thresholds because presenting both analyses would reveal confidential fishery information. Therefore, the two options were analyzed together and the differences described qualitatively. This shift in revenue is largely attributable to changing the timing of reallocation of the jig sector apportionment to the less than 60 ft (18.3 m) LOA hook-and-line and pot gear CV sector. Additionally, the amount of Pacific cod reallocated may be reduced by the amount harvested by vessels CVs less than or equal to 55 ft (16.8 m) LOA during the jig season. This action is also expected to improve stability for hook-and-line or pot CVs less than or equal to 55 ft (16.8 m) LOA as it may provide extended fishing seasons and more flexibility for smaller CVs to choose when to fish.

This action could have a positive impact on the overall safety of smaller (less than or equal to 55 ft (16.8 m) LOA) hook-and-line or pot CVs as they could be more selective on when they take their fishing trips to target better weather windows during the early winter months without the competition of larger vessels in the less than 60 ft (18.3 m) LOA hook-and-line and pot gear CV sector. As explained in Section 4.3.3 of the Analysis, this action could also have a negative impact on the overall safety of vessels greater than 55 ft (16.8 m) LOA in the less than 60 ft (18.3 m) LOA hook-and-line and pot CV sector. This is because competition early in the fishing year for the 2 percent sector allocation could increase the pace of fishing by vessels that have excess capacity and ability to fish in worse weather. Those larger vessels in the sector would no longer have access to the jig sector A season allocation at the beginning of the year. If there are active vessels using jig gear, or vessels less than or equal to 55 ft (16.8 m) LOA using hook-and-line or pot gear, a reallocation of the jig sector allocation may not be available to the less than 60 ft (18.3 m) LOA hook-and-line and pot gear CV sector until after the end of the jig sector A season.

Description of Significant Alternatives That Minimize Adverse Impacts on Small Entities

The Council considered two alternatives: a no action alternative and an action alternative with two options and a sub-option. Alternative 1 would retain the status quo by keeping the BSAI Pacific cod non-CDQ sectors specified at § 679.20(a)(7)(ii)(A), while Alternative 2 considered modifying the BSAI Pacific cod jig sector to include smaller hook-and-line or pot CVs with two options that would set the LOA for smaller CVs at either less than or equal to 55 ft (16.8 m) LOA (Option 1) or less than or equal to 56 ft (17.1 m) LOA (Option 2). Additionally, the sub-option allowed for the addition of smaller vessels to the jig sector during only the jig sector A season. The sub-option specified that the jig sector B and C seasons would remain a jig-gear-only fishery. After the jig sector's A season ends, all harvest by hook-and-line or pot CVs less than 60 ft (18.3 m) LOA (including vessels less than or equal to 55 ft (16.8m) LOA) would accrue to the same sector as under status quo.

The Council recommended Alternative 2, Option 1 with the sub-option as its preferred alternative. NMFS has reviewed the Council's recommendation and is proposing in this rule regulatory changes that would implement the Council's recommendation. As such, amendment 125 and this proposed rule would apply to the jig-gear A season only. During the A season, harvest from hook-and-line or pot CVs less than or equal to 55 ft (16.8 m) LOA would accrue to the jig sector allocation and harvest from hook-and-line or pot CVs with an LOA greater than 55 ft (16.8 m) LOA and less than 60 ft (18.3 m) LOA would accrue toward the less than 60 ft (18.3 m) LOA hook-and-line and pot CV sector's 2 percent allocation. After the jig-gear A season ends on April 30, all hook-and-line or pot CVs that are less than 60 ft (18.3 m) LOA would be in the same sector and would be eligible for reallocations utilizing the reallocation hierarchy defined in Federal regulations at § 679.20(a)(7)(iii)-(iv).

Under the status quo alternative, increased participation in the sector, and smaller BSAI Pacific cod allocation amounts and reallocations from other sectors, have resulted in shortened fishing seasons for the sector. In addition to potentially providing more stability to smaller hook-and-line or pot CVs, this action (Alternative 2, Option 1) could provide additional fishing opportunities for smaller hook-and-line or pot CVs by modifying the current BSAI Pacific cod jig sector to allow these hook-and-line and pot CVs to fish the jig sector's allocation without negatively impacting jig fishery participants. The BSAI Pacific cod jig sector has historically underutilized its 1.4 percent allocation of BSAI Pacific cod under amendment 85, the majority of which has been reallocated to the less than 60 ft (18.3 m) hook-and-line and pot CV sector.

The Council recommended Option 1 (less than or equal to 55 ft (16.8 m) LOA) to ensure the cut off for hook-and-line or pot CVs to harvest Pacific cod from the jig sector's allocation is set at a length that would exclude larger vessels with additional efficiencies. The Council received public comment that some hook-and-line or pot CVs with a reported LOA of exactly 56 ft (17.1 m) could have additional capacity to harvest BSAI Pacific cod more competitively than smaller vessels. Therefore, the Council did not choose to recommend, and NMFS did not choose to implement Option 2 because allowing 56 ft (17.1 m) LOA vessels with additional capacity to harvest Pacific cod from the jig sector's allocation in the A season may not eliminate the unintended inter-sector competition that current fishery participants in the less than 60 ft (18.3 m) hook-and-line and pot CV sector face.

The sub-option would likely result in additional opportunities for smaller hook-and-line or pot CVs to harvest Pacific cod during the jig sector A season. Keeping the B season as a jig-only fishery (i.e., status quo) would minimize the potential impacts to jig vessels, which make the majority of their BSAI Pacific cod deliveries between April and September (i.e., the B season) when the weather is safest for smaller vessels to operate. Additionally, hook-and-line or pot CVs typically prosecute other fisheries during the jig sector's B season. Due to this lack of demand and the amount of harvest allocation necessary to make reopening the sector practical, NMFS has not been able to make a reallocation to reopen the less than 60 ft (18.3 m) LOA hook-and-line and pot CV sector in the spring/summer months since 2011. Finally, keeping the C season as a jig-only fishery (i.e., status quo) responds to concerns the Council heard in public comment from fishery participants with larger hook-and-line or pot CVs who have come to depend on a fall fishing opportunity and that the historically common reallocation of jig sector TAC on or near September 1 is important to maintain.

Overall, the proposed action would provide more stability for smaller hook-and-line or pot CVs (those less than or equal to 55 ft (16.8 m) LOA). Increased participation in the less than 60 ft (18.3 m) LOA hook-and-line and pot CV sector, smaller BSAI Pacific cod annual TACs, and fewer reallocations from other sectors, have resulted in shortened fishing seasons for the sector. In addition to potentially providing more stability to smaller hook-and-line or pot CVs, this action could provide additional fishing opportunities for smaller hook-and-line and pot vessels by redefining the current BSAI Pacific cod jig sector to include these hook-and-line or pot CVs without negatively impacting jig fishery participants. The BSAI Pacific cod jig sector has historically underutilized its 1.4 percent allocation of BSAI Pacific cod under amendment 85, the majority of which has been reallocated to the less than 60 ft (18.3 m) hook-and-line and pot CV sector.

A key challenge this action seeks to address is that the less than 60 ft (18.3 m) LOA hook-and-line and pot CV sector has experienced a shortened initial fishing period in recent years, which negatively impacts smaller vessels because they have less capacity and flexibility to fish in poor weather and in more productive grounds farther from shore. Due to their size, smaller vessels typically fish waters closer to shore, which may be less productive for Pacific cod. Pacific cod is a demersal species found throughout the Eastern BS and the AI and are distributed over the continental shelf at depths from shoreline to 500 m (Section 4.3.3 of the RIR). However, Pacific cod do not typically appear inside shallow, inshore waters until mid to late February. Additionally, condensed fishing periods at the start of the year give smaller vessels less flexibility to avoid fishing when the weather creates unsafe conditions. These dynamics pose safety concerns for smaller vessels that this action will address by allowing hook-and-line or pot CVs less than or equal to 55 ft (16.8 m) LOA to harvest Pacific cod from the jig-sector's A season allocation and thereby providing a dedicated fishing opportunity to these smaller vessels separate from the more competitive vessels in less than 60 ft (18.3 m) LOA hook-and-line and pot CV sector. This would also provide smaller hook-and-line or pot CVs with greater flexibility in the timing of fishing, allowing for improved fishing safety as well as greater fishing opportunities. The Council acknowledged that vessels greater than 55 ft (16.8 m) and less than 60 ft (18.3 m) LOA could face reduced fishing opportunities early in the year in the absence of an A season reallocation from the jig sector. NMFS agrees with the Council's rationale that smaller vessels face greater safety risks and, thus, are of greater concern.

Based upon the best scientific data available, and in consideration of the objectives of this action, there are no significant alternatives to the proposed rule that have the potential to accomplish the stated objectives of the Magnuson-Stevens Act and other applicable statutes and that have the potential to minimize any significant adverse economic impact of the proposed rule on small entities.

Overall, this action is economically beneficial to entities operating vessels less than or equal to 55 ft (16.8 m) LOA in the BSAI Pacific cod hook-and-line and pot CVs less than 60 ft (18.3 m) LOA sector, including small entities. This action proposes modification to fishing sectors to improve fishery efficiency, allows for new small entity entrants to the fishery, and improves small vessel safety at sea. After public process during which the Council solicited input from stakeholders, the Council recommended this action. NMFS determined that the recommended action would best accomplish the stated objectives articulated in the preamble for this proposed rule, and in applicable statutes, and would minimize to the extent practicable adverse economic impacts on the universe of directly regulated small entities.

Duplicate, Overlapping, or Conflicting Federal Rules

No duplication, overlap, or conflict between this proposed action and existing Federal rules has been identified.

Recordkeeping, Reporting, and Other Compliance Requirements

This action does not modify recordkeeping or reporting requirements, or duplicate, overlap, or conflict with any Federal rules.

List of Subjects in 50 CFR Part 679

Alaska, Fisheries, Reporting and recordkeeping requirements.

Dated: August 1, 2025.
Samuel D. Rauch III,
Deputy Assistant Administrator for Regulatory Programs, National Marine Fisheries Service.

For the reasons set out in the preamble, NMFS proposes to amend 50 CFR part 679 as follows:

PART 679—FISHERIES OF THE EXCLUSIVE ECONOMIC ZONE OFF ALASKA

1. The authority citation for part 679 continues to read as follows:

Authority: 16 U.S.C. 773 et seq.; 1801 et seq.; 3631 et seq.; Pub. L. 108-447; Pub. L. 111-281.

2. Amend § 679.20 by revising paragraphs (a)(7)(ii)(A)(1) and (2) and (B); (a)(7)(iii)(A) and (B) introductory text; (a)(7)(iv)(A)(3) and (C); and adding paragraph (a)(7)(iv)(D) to read as follows:

§ 679.20 General Limitations.

(a) * * *

(7) * * *

(ii) * * *

(A) * * *

Sector | % Allocation
(1) Jig (During the jig gear A season, see small vessel provision in paragraph (a)(7)(iv)(D) of this section) | 1.4
(2) Hook-and-line and pot CV <60 ft (18.3 m) LOA (During the jig gear A season, see small vessel provision in paragraph (a)(7)(iv)(D) of this section) | 2
* * * * * * *

(B) Incidental catch allowance. During the annual harvest specifications process set forth at paragraph (c) of this section, the Regional Administrator will specify an amount of Pacific cod that NMFS estimates will be taken as incidental catch in directed fisheries for groundfish other than Pacific cod by the hook-and-line and pot gear sectors. This amount will be the incidental catch allowance and will be deducted from the aggregate portion of Pacific cod TAC annually allocated to the hook-and-line and pot gear sectors (including the jig sector due to the small vessel provision in paragraph (a)(7)(iv)(D) of this section) before the allocations under paragraph (a)(7)(ii)(A) of this section are made to these sectors.

(iii) * * *

(A) Catcher vessel sectors. The Regional Administrator will reallocate projected unharvested amounts of Pacific cod TAC from a catcher vessel sector as follows:

(1) First, to the jig sector, as described under paragraph (7)(ii)(A)(1) of this section, or to the less than 60 ft (18.3 m) LOA hook-and-line and pot catcher vessel sector, as described under paragraph (7)(ii)(A)(2) of this section, or to both of these sectors;

(2) Second, to the greater than or equal to 60 ft (18.3 m) LOA hook-and-line or to the greater than or equal to 60 ft (18.3 m) LOA pot catcher vessel sectors; and

(3) Third, to the trawl catcher vessel sector.

(4) If the Regional Administrator determines that a projected unharvested amount from the jig sector allocation, the less than 60 ft (18.3 m) LOA hook-and-line and pot catcher vessel sector allocation, or the greater than or equal to 60 ft (18.3 m) LOA hook-and-line catcher vessel sector allocation is unlikely to be harvested through this hierarchy, the Regional Administrator will reallocate that amount to the hook-and-line catcher/processor sector.

(5) If the Regional Administrator determines that a projected unharvested amount from a greater than or equal to 60 ft (18.3 m) LOA pot catcher vessel sector allocation is unlikely to be harvested through this hierarchy, the Regional Administrator will reallocate that amount to the pot catcher/processor sector in accordance with the hierarchy set forth in paragraph (a)(7)(iii)(C) of this section.

(6) If the Regional Administrator determines that a projected unharvested amount from a trawl catcher vessel sector allocation is unlikely to be harvested through this hierarchy, the Regional Administrator will reallocate that amount to the other trawl sectors in accordance with the hierarchy set forth in paragraph (a)(7)(iii)(B) of this section.

(B) Trawl gear sectors. After applying paragraphs (a)(7)(iii)(A)(1) through (6) of this section, if applicable, the Regional Administrator will reallocate any projected unharvested amounts of Pacific cod TAC from the trawl catcher vessel or AFA catcher/processor sectors to other trawl sectors before unharvested amounts are reallocated and apportioned to specified gear sectors as follows:

* * * * *

(iv) * * *

(A) * * *

Sector | Seasonal allowances (%): A Season | Seasonal allowances (%): B Season | Seasonal allowances (%): C Season
* * * * * * *
(3) Jig (During the jig gear A season, see small vessel provision in paragraph (a)(7)(iv)(D) of this section) | 60 | 20 | 20
* * * * * * *

* * * * *

(C) Jig sector. See § 679.20(a)(7)(iv)(D) for small vessel provisions during the A season. The Regional Administrator will reallocate any projected unused portion of a seasonal allowance of Pacific cod for the jig sector under this section to the less than 60 ft (18.3 m) LOA hook-and-line and pot catcher vessel sector. The Regional Administrator will reallocate the projected unused portion of the jig sector's C season allowance on or about September 1 of each year.

(D) Small vessel provision. (1) During the jig gear A season (see § 679.23(e)(5)(iv)), harvest by vessels using jig gear and harvest by CVs less than or equal to 55 ft (16.8 m) LOA using hook-and-line or pot gear accrues against the jig sector seasonal allowance.

(2) During the jig gear B and C seasons (see § 679.23(e)(5)(iv)), harvest by vessels using jig gear accrues against the seasonal allowances for the jig sector, and harvest by CVs less than or equal to 55 ft (16.8 m) LOA using hook-and-line or pot gear accrues against the hook-and-line and pot CV less than 60 ft (18.3 m) LOA sector's allocation.

* * * * *

[FR Doc. 2025-14960 Filed 8-5-25; 8:45 am]

BILLING CODE 3510-22-P